ENVIRONMENTAL PROTECTION AGENCY

[ER-FRL-9000-5]

Environmental Impacts Statements; Notice of Availability

Responsible Agency: Office of Federal Activities, General Information (202) 564-1399 or http://www.epa.gov/compliance/nepa/.

Weekly receipt of Environmental Impact Statements Filed 12/12/2011 Through 12/16/2011

Pursuant to 40 CFR 1506.9.

Notice: Section 309(a) of the Clean Air Act requires that EPA make public its comments on EISs issued by other Federal agencies. EPA's comment letters on EIS are available at: http://www.epa.gov/compliance/nepa/eisdata.html.

EIS No. 20110417, Draft EIS, USFS, CA, Rubicon Trail Easement and Resource Improvement Project, Construction and Operation, Right-of-Way Grant, Eldorado National Forest, Pacific Ranger District, El Dorado County, CA, Comment Period Ends: 01/30/2012, Contact: Laura Hierholzer (530) 642-5187

EIS No. 20110418, Final EIS, NPS, WA, Ross Lake National Recreation Area Project, General Management Plan, Implementation, Skagit and Whatcom Counties, WA, Review Period Ends: 01/17/2012, Contact: Roy Zipp (360) 873-4590 Ext. 31

EIS No. 20110419, Final EIS, BR, CA, Suisun Marsh Habitat Management, Preservation, and Restoration Plan, Implementation, CA, Review Period Ends: 01/17/2012, Contact: Becky Victorine (916) 978-5035

EIS No. 20110420, Draft Supplement, USACE, TX, Clear Creek Reevaluation Study Project, Flood Risk Management and Ecosystem Restoration, Brazoria, Fort Bend, Galveston and Harris Counties, TX, Comment Period Ends: 01/30/2012, Contact: Andrea Catanzaro (409) 766-6346

EIS No. 20110421, Draft EIS, USFS, CA, Greys Mountain Ecological Restoration Project, Proposed Forest Management Treatments to Reduce Fire Hazard and Restore Forest Health, Sierra National Forest, Bass Lake Ranger District, Madera County, CA, Comment Period Ends: 01/30/2012, Contact: Burt Stalter (559) 877-2218 Ext. 3208

EIS No. 20110422, Draft EIS, RUS, 00, Hampton—Rochester—La Crosse Transmission System Improvement Project, Proposed Construction and Operation of a 345-Kilovolt (kV) Transmission Line and Associated Facilities between Hampton, Minnesota and La Crosse, Wisconsin, Comment Period Ends: 01/30/2012, Contact: Stephanie A. Strength (970) 403-3559

Amended Notices

EIS No. 20110404, Draft EIS, BLM, NV, Mount Hope Project, Molybdenum Mining and Processing Operation in Eureka County, NV, Comment Period Ends: 03/01/2012, Contact: Angelica Rose (775) 635-4000

Revision to FR Notice Published 12/02/2011: Correction to Comment Period from 03/07/2012 to 03/01/2012

EIS No. 20110410, Draft EIS, FAA, CA, Gnoss Field Airport Project, Proposed Extension to Runway 13/31/, Funding, Marin County, CA, Comment Period Ends: 02/06/2012, Contact: Doug Pomeroy (650) 827-7612.

Revision to FR Notice 12/09/2011: Correction to Contact Telephone Number.

Dated: December 13, 2011.
Cliff Rader,
Director, NEPA Compliance Division, Office of Federal Activities.

[FR Doc. 2011-32282 Filed 12-15-11; 8:45 am]

BILLING CODE 6560-50-P